DEPARTMENT OF ENERGY

Federal Energy Regulatory Commission

Combined Notice of Filings

Take notice that the Commission has received the following Natural Gas Pipeline Rate and Refund Report filings:

Filings Instituting Proceedings

Docket Numbers: RP15-217-000.

Applicants: Kinder Morgan Pipelines.

Description: Petition of Kinder Morgan Pipelines for Limited Waiver of Order No. 787 and for Expedited Action.

Filed Date: 11/25/14.

Accession Number: 20141125-5401.

Comments Due: 5 p.m. ET 12/8/14.

Docket Numbers: RP15-240-000.

Applicants: Southwestern Energy Services Company, WPX Energy Appalachia, LLC, WPX Energy Keystone, LLC, WPX Energy Marketing, LLC.

Description: Joint Petition of WPX Energy Appalachia, LLC, WPX Energy Keystone, LLC, WPX Energy Marketing, LLC, and Southwestern Energy Services Company for Temporary Waiver of Capacity Release and Certain Other Regulations and Policies and Related Tariff Provisions.

Filed Date: 12/3/14.

Accession Number: 20141203-5257.

Comments Due: 5 p.m. ET 12/10/14.

Docket Numbers: RP15-241-000.

Applicants: Rice Drilling B LLC, Rice Energy Marketing LLC.

Description: Joint Petition of Rice Drilling B LLC and Rice Energy Marketing LLC for Temporary Waiver of Capacity Release Regulations, Policies and Related Tariff Provisions, and Request for Shortened Comment Period and Expedited Treatment.

Filed Date: 12/3/14.

Accession Number: 20141203-5258.

Comments Due: 5 p.m. ET 12/10/14.

Docket Numbers: RP15-242-000.

Applicants: Northern Natural Gas Company.

Description: § 4(d) rate filing per 154.204: 2014112014 MOPS Abandonment to be effective 1/6/2015.

Filed Date: 12/4/14.

Accession Number: 20141204-5074.

Comments Due: 5 p.m. ET 12/16/14.

Docket Numbers: RP15-243-000

Applicants: Young Gas Storage Company, Ltd.

Description: § 4(d) rate filing per 154.204: ATC Rate Adjustment 2014 to be effective 12/1/2014.

Filed Date: 12/4/14.

Accession Number: 20141204-5104.

Comments Due: 5 p.m. ET 12/16/14.

Docket Numbers: RP15-244-000.

Applicants: Enable Gas Transmission, LLC.

Description: § 4(d) rate filing per 154.204: Negotiated Rate Filing—December 2014—LER 0222 Att A to be effective 12/4/2014.

Filed Date: 12/4/14.

Accession Number: 20141204-5161.

Comments Due: 5 p.m. ET 12/16/14.

Docket Numbers: RP15-245-000.

Applicants: Tennessee Gas Pipeline Company, L.L.C.

Description: § 4(d) rate filing per 154.204: Volume No. 2—MEX Gas Supply, S.L. SP307989 to be effective 1/1/2015.

Filed Date: 12/4/14.

Accession Number: 20141204-5162.

Comments Due: 5 p.m. ET 12/16/14.

Docket Numbers: RP15-246-000.

Applicants: Gulfstream Natural Gas System, L.L.C.

Description: § 4(d) rate filing per 154.204: Posting Offers to Purchase Capacity to be effective 1/4/2015.

Filed Date: 12/4/14.

Accession Number: 20141204-5177.

Comments Due: 5 p.m. ET 12/16/14.

Docket Numbers: RP15-247-000.

Applicants: Enable Mississippi River Transmission, L.

Description: § 4(d) rate filing per 154.204: Negotiated Rate Filing to Amend LER 5680's Attachment A_12-05-14 to be effective 12/5/2014.

Filed Date: 12/5/14.

Accession Number: 20141205-5236.

Comments Due: 5 p.m. ET 12/17/14.

Docket Numbers: RP15-248-000.

Applicants: Tennessee Gas Pipeline Company, L.L.C.

Description: § 4(d) rate filing per 154.204: Volume No. 2—Cargill Incorporated SP308194 to be effective 1/1/2015.

Filed Date: 12/5/14.

Accession Number: 20141205-5308.

Comments Due: 5 p.m. ET 12/17/14.

Docket Numbers: RP15-249-000.

Applicants: Colorado Interstate Gas Company, L.L.C.

Description: § 4(d) rate filing per 154.204: Average Thermal Content Adjustment Filing to be effective 12/1/2014.

Filed Date: 12/8/14.

Accession Number: 20141208-5002.

Comments Due: 5 p.m. ET 12/22/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-883-001.

Applicants: Trailblazer Pipeline Company LLC.

Description: Compliance filing per 154.203: Date Fix for Compliance to Show Cause to be effective 10/16/2014.

Filed Date: 12/5/14.

Accession Number: 20141205-5122.

Comments Due: 5 p.m. ET 12/17/14.

Docket Numbers: RP14-885-001.

Applicants: Rockies Express Pipeline LLC.

Description: Compliance filing per 154.203: Compliance—Date Fix for Order to Show Cause to be effective 10/16/2014.

Filed Date: 12/5/14.

Accession Number: 20141205-5121.

Comments Due: 5 p.m. ET 12/17/14.

Docket Numbers: RP14-896-001.

Applicants: Tallgrass Interstate Gas Transmission, L.

Description: Compliance filing per 154.203: Date Fix Compliance for Order to Show Cause to be effective 10/16/2014.

Filed Date: 12/5/14.

Accession Number: 20141205-5123.

Comments Due: 5 p.m. ET 12/17/14.

Docket Numbers: RP15-47-002.

Applicants: Columbia Gas Transmission, LLC.

Description: Compliance filing per 154.203: Negotiated & Non-Conforming Service Agmt—WestSide Compliance Filing.

Filed Date: 12/5/14.

Accession Number: 20141205-5260.

Comments Due: 5 p.m. ET 12/17/14.

Docket Numbers: RP15-55-001.

Applicants: Columbia Gulf Transmission, LLC.

Description: Compliance filing per 154.203: Negotiated & Non-Conforming Service Agmts—West Side Compliance Filing.

Filed Date: 12/5/14.

Accession Number: 20141205-5261.

Comments Due: 5 p.m. ET 12/17/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2014.
Nathaniel J. Davis, Sr.,
Deputy Secretary.

[FR Doc. 2014-29302 Filed 12-15-14; 8:45 am]

BILLING CODE 6717-01-P